DEPARTMENT OF COMMERCE

Foreign-Trade Zones Board

Change of Address

The office of the Foreign-Trade Zones (FTZ) Board staff has moved within the Herbert Clark Hoover Building (Main Commerce Building). Submissions to the FTZ Board should hereafter be directed to the address below:

Foreign-Trade-Zones Board,

U.S. Department of Commerce,

1401 Constitution Ave. NW.,

Room 2111,

Washington, DC 20230.

Dated: June 22, 2007.
Andrew McGilvray,
Executive Secretary.

[FR Doc. E7-12567 Filed 6-27-07; 8:45 am]

BILLING CODE 3510-DS-S